DEPARTMENT OF AGRICULTURE

Forest Service

Stanislaus National Forest, CA; Notice of Intent To Prepare an Environmental Impact Statement for BEH Rangeland Allotments

AGENCY: Forest Service, USDA.

ACTION: Notice of Intent to Prepare an Environmental Impact Statement.

SUMMARY: The Stanislaus National Forest proposes to reauthorize livestock grazing on the Bell Meadow (B), Eagle Meadow (E) and Herring Creek (H) allotments on the Summit Ranger District. The area affected by this proposal includes approximately 57,250 acres in the Sierra Nevada, located in Tuolumne County, California. The purpose of this proposal is to ensure compliance with all applicable Public Laws and standards and guidelines described in the Forest Plan.

DATES: Comments on the proposed action should be submitted within 45 days of the date of publication of this Notice of Intent. Completion of the draft environmental impact statement is expected in January 2012 and the final environmental impact statement is expected in August 2012.

ADDRESSES: Send written comments to: Stanislaus National Forest, Attn: BEH Range; 19777 Greenley Road; Sonora, CA 95370. Electronic comments, in acceptable plain text (.txt), portable document format (.pdf), rich text (.rtf), or Word (.doc) formats, may be submitted to comments-pacificsouthwest-stanislaus@fs.fed.us with Subject: BEH Range.

FOR FURTHER INFORMATION CONTACT: Crispin Holland, Stanislaus National Forest, 19777 Greenley Road; Sonora, CA 95370; phone: (209) 532-3671 ext. 274; e-mail: cholland@fs.fed.us.

SUPPLEMENTARY INFORMATION:

General Background

Domestic livestock grazing occurred in the area encompassed by these allotments since the 1850s. The livestock industry in this area peaked around the turn of the century, during the same time period as the creation of the Forest Reserves (later to become the National Forests). Regulation of livestock grazing began with the establishment of the Stanislaus National Forest and more seriously with the passage of the Taylor Grazing Act of 1934. The requirement that ranchers obtain grazing permits to graze National Forest land was intended to prevent long-term resource damage. Permitted livestock numbers on these allotments and across the National Forests in California are at least 50% below that allowed in the 1950s. Over time, allotment boundaries changed and portions of the National Forest are no longer grazed by commercial livestock.

Several Congressional Acts passed in the 1960s and 1970s, mainly the National Environmental Policy Act of 1969 (NEPA), required the Forest Service to conduct thorough analysis in planning and decision making for activities that affect the environment. The Rescissions Act of 1995 (Pub. L. 104-19, Sec 504(a)) requires the Forest Service to establish a schedule for completion of NEPA analysis on grazing allotments in order to update Allotment Management Plans (AMPs) and continue to authorize livestock grazing. The Code of Federal Regulations (36 CFR 222), the Forest Service Manual (FSM 2200) and the Forest Service Handbook (FSH 2209) contain direction and policy for Range Management (livestock use on National Forest lands).

The Bell Meadow, Eagle Meadow and Herring Creek AMPs were last updated in 1989, 1990 and 1980, respectively. The Forest Plan, as amended, now includes emphasis on specific resources and that along with changes to resources on the ground results in a need to update the AMPs and issue revised Term Grazing Permits.

Purpose and Need for Action

The purpose of this initiative is to reauthorize livestock grazing in the project area and to ensure compliance with the following regulations and agency policy:

• Public Law 104-19 Section 504 of the 1995 Rescissions Act, as amended, require each National Forest to establish and adhere to a schedule for completing NEPA analysis and updating Allotment Management Plans for all rangeland allotments on National Forest System lands.

• Congressional intent allows grazing on suitable lands where it is consistent with other multiple use goals and objectives as authorized through several Congressional Acts (Organic Administration Act of 1897, Multiple Use Sustained Yield Act of 1960, Wilderness Act of 1964, Forest and Rangeland Renewable Resources Planning Act of 1974, Federal Land Policy and Management Act of 1976, National Forest Management Act of 1976, and the Public Rangelands Improvement Act of 1978);

• Code of Federal Regulations (CFR) directs the Forest Service to meet multiple-use objectives, including managing for livestock grazing on forage-producing National Forest System lands (36 CFR 222.2 (c));

• It is Forest Service policy to make forage available to qualified livestock operators from lands suitable for grazing consistent with land management plans (Forest Service Manual (FSM) 2203.1); and,

• It is Forest Service policy to continue contributions to the economic and social well being of people by providing opportunities for economic diversity and by promoting stability for communities that depend on range resources for their livelihood (FSM 2202.1)

This action is needed because:

• There is public demand from qualified livestock operators for continued livestock grazing on these allotments. Livestock grazing on Forest Service land is an important source of meat and fiber production, encourages the retention of private lands (ranches) as open space, contributes to the economic stability of rural populations, and provides Forest visitors with opportunities to experience a traditional and culturally important use of public lands.

• Recent assessments indicate that specific locations within the project area may not be meeting or moving toward desired conditions in a manner that is timely and consistent with Forest Plan objectives, standards and guidelines. Gaps between existing resource conditions and desired conditions indicate a need to change grazing management by updating AMPs.

• There is a need to design and implement an adaptive management system that will continue to move resource conditions toward desired conditions in a manner that is timely and consistent with Forest Plan goals and objectives.

Proposed Action

In response to the purpose and need, the Forest Service proposes to continue to authorize livestock grazing in the Bell Meadow, Eagle Meadow, and Herring Creek allotments, making forage available to qualified livestock operators in a manner that is sustainable and consistent with management direction. The Proposed Action would adjust livestock management, update Allotment Management Plans and implement an adaptive management strategy that would provide for healthy ecosystems in a manner that is consistent with the Forest Plan. The Proposed Action would move existing conditions toward desired conditions while continuing to allow livestock grazing on these allotments with the following management actions.

(1) Authorize continued grazing on the Bell Meadow, Eagle Meadow, and Herring Creek allotments in a manner that provides for healthy ecosystems and is consistent with Forest Plan direction.

Modify allotment boundaries, create subunits, and update Allotment Management Plans to incorporate resource conservation measures and adaptive management options. Implement design criteria in order to better achieve desired conditions through systematic monitoring and adjustment of grazing activities, while allowing for flexibility in management decisions.

For more details about the proposed action, including a scoping package and maps, visit the project Web site at: http://fs.usda.gov/goto/stanislaus/projects.

Responsible Official

Susan Skalski, Forest Supervisor, Stanislaus National Forest, Supervisor's Office, 19777 Greenley Road, Sonora, CA 95370.

Nature of Decision To Be Made

The project area includes all land encompassed in the Bell Meadow, Eagle Meadow, and Herring Creek allotments, and areas proposed as additions to these allotments. The responsible official will decide whether to adopt and implement the proposed action, an alternative to the proposed action, or take no action to reauthorize grazing in the Bell Meadow, Eagle Meadow, and Herring Creek allotments.

Scoping Process

Public participation is important at numerous points during the analysis. The Forest Service seeks information, comments, and assistance from the federal, state, and local agencies and individuals and organizations that may be interested in or affected by the proposed action.

Comments on the proposed action should be submitted within 45 days of the date of publication of this Notice of Intent. The draft EIS is expected to be filed with the Environmental Protection Agency (EPA) and to be available for public review by approximately January 2012. EPA will publish a notice of availability of the draft EIS in the Federal Register. At that time, copies of the draft EIS will be distributed to all interested and affected agencies, organizations, and members of the public for their review and comment. It is very important that those interested in the management of the Stanislaus National Forest participate at that time.

The final EIS is scheduled to be completed in August 2012. In the final EIS, the Forest Service is required to respond to substantive comments received during the comment period that pertain to the environmental consequences discussed in the draft EIS and applicable laws, regulations, and policies considered in making the decision. Substantive comments are defined as “comments within the scope of the proposed action, specific to the proposed action, and have a direct relationship to the proposed action, and include supporting reasons for the responsible official to consider” (36 CFR 215.2). Only those who submit comments during the comment period on the draft EIS are eligible to appeal the subsequent decision under the 36 CFR part 215 regulations.

Comment Requested

This notice of intent initiates the scoping proces which guides the development of the environmental impact statement. A draft EIS will be prepared for comment. The comment period on the draft EIS will be 45 days from the date the Environmental Protection Agency publishes the notice of availability in the Federal Register.

Early Notice of Importance of Public Participation in Subsequent Environmental Review:

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: July 29, 2011.
Susan Skalski,
Forest Supervisor.

[FR Doc. 2011-19758 Filed 8-3-11; 8:45 am]

BILLING CODE 3410-11-P